POSTAL SERVICE

39 CFR Part 111

USPS Returns Service

AGENCY: Postal Service™.

ACTION: Proposed rule; revision; additional comment period.

SUMMARY: The Postal Service is proposing to amend Mailing Standards of the United States Postal Service, Domestic Mail Manual (DMM®) section 505.3.0, and various other sections, to remove references to the traditional Merchandise Return Service (MRS) portion of merchandise return service and to enhance USPS Returns® service.

DATES: Submit comments on or before January 21, 2020.

ADDRESSES: Mail or deliver written comments to the manager, Product Classification, U.S. Postal Service, 475 L'Enfant Plaza SW, Room 4446, Washington, DC 20260-5015. If sending comments by email, include the name and address of the commenter and send to ProductClassification@usps.gov, with a subject line of “USPS Returns Service”. Faxed comments are not accepted. All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Karen Key at (202) 268-7492, Vicki Bosch at (202) 268-4978, or Garry Rodriguez at (202) 268-7281.

SUPPLEMENTARY INFORMATION: The Postal Service published a notice of proposed rulemaking on July 23, 2018 (83 FR 34807-34811) to amend DMM section 505.3.0, Merchandise Return Service (MRS), to remove the references to traditional MRS processes and introduce an enhanced USPS Returns service. One formal response was received relating only to terminology used to describe users of the Enterprise Payment System (EPS).

The Postal Service has elected to issue a second revised proposed rule in order to further clarify our proposal and provide a revised effective date.

Under the Package Platform initiative, the Postal Service has leveraged devices that were installed as part of the Automated Package Verification system to enhance the capability of equipment used for the processing of package-size mailpieces. The upgraded equipment captures near real-time data on package dimensions, weight, mail class or product, and other attributes, and transmits the data to Postal Service information systems. The Postal Service will use this new technology to streamline its processes for the identification and postage assessment of each return package, and enable account holders to pay the postage for their returns electronically. Mailers will receive detailed reports to monitor package level pricing as their returns are processed and delivered through the Postal Service network. This improved functionality will significantly reduce the need to manually weigh and invoice returns or to estimate postage via sampling under the Postage Due Weight Averaging Program for MRS packages, and will eliminate the scan-based payment process currently used with USPS Returns services.

The USPS Returns service's new methodology was deployed January 27, 2019, allowing existing customers to migrate to the automated returns process and new customers to establish automated returns service. Current USPS Returns service and MRS customers would be expected to migrate to the new automated methodology by August 28, 2020. The originally proposed deadline of January 2021 for MRS customers to migrate to the new USPS Returns methodology is being revised because the Postal Service has been working closely with returns customers for an extended period of years, and more actively prior to and since the deployment of the automated functionality, and believes MRS customers can convert by August 28, 2020.

The proposed USPS Returns service automated methodology would use the same commercial prices as those currently applied to USPS Returns services and MRS: Priority Mail® Commercial Base® and Commercial Plus® (as applicable to the qualifying USPS Returns account holders), First-Class Package Service®—Commercial, and Parcel Select Ground®, and would apply those prices to each individual return package. Negotiated Service Agreement (NSA) prices would be available for eligible customers using the USPS Returns service automated process.

USPS Returns service account holders would pay postage and fees through an Enterprise Payment System (EPS) account. EPS is a relatively new payment system designed to provide a single point for all payment-related activities. Returns customers of any type would be required to set up an EPS account for electronic funds transfer for payment of USPS Returns service. USPS Returns service account customers can view payment information in a consolidated format in their EPS account accessed through the Business Customer Gateway at https://gateway.usps.com. The available information includes account balances, postage activity reports, transactions history, and other information. For EPS account set up or support, contact Postalone@usps.gov or call the PostalOne! Helpdesk at 800-522-9085, or the USPS Mailing and Shipping Solution Center at 1-877-MRC-0007 (1-877-672-0007).

USPS Tracking® is included as part of the service for any USPS Returns service product, and the Extra Services available for a fee for the USPS Returns service automated methodology include Insurance, Signature Confirmation™, and Certificate of Mailing service. In cases where the USPS Returns service account holder must sign for multiple returns bearing accountable Extra Services, the Postal Service will create an electronic firm sheet to capture the recipient's signature at the time of delivery and append it to the applicable associated returns. If all or part of the Intelligent Mail® package barcode (IMpb®) is unreadable, or the package is unable to be priced based on the availability of data collected, postage will be based on historical data, or default data determined at time of enrollment.

While moving forward with the substantive changes to the returns options described in this proposed rule, the Postal Service is modifying the proposed DMM changes to exclude the originally proposed section 505.3.8 and instead include those changes in an expanded section 505.3.1, which will replace current sections 505.3.1 through 505.3.6. This approach will consolidate the new USPS Returns automated methodology material and the existing returns sections into one section.

Additionally, the Postal Service is proposing to remove the references to “Merchandise Return Service”, both in section 505.3.0 and in the other sections that refer to Merchandise Return Service. When appropriate, these references are being replaced with references to USPS Returns service.

In addition, the Postal Service proposes to update Quick Service Guides 220, 503, and 800, to reflect these DMM revisions.

We believe these proposed revisions to our returns package product offerings will provide customers who choose the Postal Service for return services a more efficient process and a superb customer experience.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

List of Subjects in 39 CFR Part 111

Administrative practice and procedure, Postal Service.

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

100 Retail Mail Letters, Cards, Flats, and Parcels

101 Physical Standards

* * * * *

6.0 Additional Physical Standards for First-Class Mail and First-Class Package Service—Retail

* * * * *

6.2 Cards Claimed at Card Prices

* * * * *

6.2.9 Double Cards

* * * Double cards are subject to these standards:

* * * * *

[Revise the second sentence of item b to read as follows:]

b. * * * The address side of the reply half may be prepared as Business Reply Mail, Courtesy Reply Mail, meter reply mail, or as a USPS Returns service label.

* * * * *

200 Commercial Letters, Flats, and Parcels Design Standards

201 Physical Standards

1.0 Physical Standards for Machinable Letters and Cards

* * * * *

1.2 Physical Standards for Cards Claimed at Card Prices

* * * * *

1.2.9 Double Cards

* * * Double cards are subject to these standards:

* * * * *

[Revise the second sentence of item b to read as follows:]

b. * * * The address side of the reply half may be prepared as business reply mail, courtesy reply mail, meter reply mail, or as a USPS Returns service label.

* * * * *

202 Elements on the Face of a Mailpiece

* * * * *

3.0 Placement and Content of Mail Markings

* * * * *

3.3 Priority Mail Express and Priority Mail Markings

* * * * *

3.3.3 Additional Markings for Priority Mail Express and Priority Mail

[Revise the first sentence of the introductory text of 3.3.3 to read as follows:]

In addition to the basic price marking in 3.3.1 and 3.3.2, except for pieces paid using a USPS Corporate Account, USPS Returns service, or permit imprint, Priority Mail Express and Priority Mail pieces claiming Commercial Base or Commercial Plus prices also must bear the appropriate commercial price marking, printed on the piece or produced as part of the meter imprint or PC Postage indicia. * * *

* * * * *

204 Barcode Standards

* * * * *

2.0 Standards for Package and Extra Service Barcodes

2.1 Intelligent Mail Package Barcode

2.1.1 Definition

[Revise the fourth sentence of 2.1.1 to read as follows:]

* * * All mailers generating Intelligent Mail package barcodes (IMpb) must also submit piece-level information to the USPS via an approved electronic file format (except for mailers generating barcodes for use on return services products, such as uninsured USPS Returns service packages). * * *

* * * * *

2.1.7 Electronic File

[Revise the first sentence of the introductory text of 2.1.7 to read as follows:]

All mailers generating Intelligent Mail package barcodes (IMpb) must transmit piece-level information to USPS in an approved electronic file format (except for mailers generating barcodes for use on return services products, such as uninsured USPS Returns service packages). * * *

* * * * *

220 Commercial Mail Priority Mail

223 Prices and Eligibility

1.0 Prices and Fees

* * * * *

1.2 Commercial Base Prices

* * * The Commercial Base prices are available for:

* * * * *

[Revise the text of item e to read as follows:]

e. Permit holders using USPS Returns service for packages returned at Priority Mail prices when all requirements are met under 505.3.0.

* * * * *

1.3 Commercial Plus Prices

1.3.1 Basic Eligibility

* * * Commercial Plus prices are available to Priority Mail customers who qualify for Commercial Base prices and whose cumulative account volume exceeds a combined total of 5,000 letter-size and flat-size pieces (including Flat Rate Envelopes, but not the Padded Flat Rate Envelope) or 50,000 total pieces in the previous calendar year (except Priority Mail Open and Distribute) and who have a customer commitment agreement with USPS (new Priority Mail customers see 1.3.2), and are:

* * * * *

[Revise the text of item d to read as follows:]

d. Permit holders using USPS Returns service for packages returned at Priority Mail prices when all requirements are met under 505.3.0.

* * * * *

1.4 Commercial Plus Cubic

1.4.1 Commercial Plus Cubic Eligibility

* * * The Commercial Plus cubic prices are available for:

* * * * *

[Revise the text of item c to read as follows:]

c. Permit holders using USPS Returns service for packages returned at Priority Mail prices when all requirements are met under 503.3.0.

* * * * *

224 Postage Payment and Documentation

1.0 Basic Standards for Postage Payment

1.1 Postage Payment Options

1.1.1 Commercial Base Pricing

Priority Mail Commercial Base and Regional Rate Box postage may be paid with:

* * * * *

[Revise the text of item e to read as follows:]

e. Permit holders using USPS Returns service for Priority Mail packages when all requirements are met under 505.3.0.

1.1.2 Commercial Plus Pricing

Commercial Plus Priority Mail postage may be paid with:

* * * * *

[Revise the text of item c to read as follows:]

c. Permit holders using USPS Returns service for Priority Mail packages who qualify for Commercial Base prices and whose account volumes exceed 100,000 pieces in the previous calendar year or who have a customer commitment agreement with the USPS (see 223.1.3.2).

* * * * *

1.1.3 Commercial Plus Cubic Pricing

Commercial Plus cubic prices may be paid with:

* * * * *

[Revise the text of item c to read as follows:]

c. Permit holders using USPS Returns service when packages are returned at Priority Mail prices and all requirements are met under 505.3.0.

* * * * *

280 Commercial Mail First-Class Package Service—Commercial

283 Prices and Eligibility

1.0 Prices and Fees

* * * * *

1.2 Commercial Prices

Commercial prices are available when paid by one of the following methods:

* * * * *

[Revise the text of item d to read as follows:]

d. Permit holders using USPS Returns service for First-Class Package Service—Commercial packages when all requirements are met under 505.3.0.

* * * * *

500 Additional Mailing Services

503 Extra Services

1.0 Basic Standards for All Extra Services

* * * * *

1.4 Eligibility for Extra Services

* * * * *

1.4.3 Eligibility—Domestic Returns

Extra services for return packages under 505.3.0 and 505.4.0 are available as follows:

Exhibit 1.4.3 Eligibility—Domestic Returns

[Revise Exhibit 1.4.3 by inserting a new table to read as follows:]

Return services | Eligible extra services (paid EPS account or by permit holder): Insurance $500 or less | Eligible extra services (paid EPS account or by permit holder): Insurance more than $500 | Eligible extra services (paid EPS account or by permit holder): Signature confirmation | Eligible extra services (paid by sender): Insurance $500 or less | Eligible extra services (paid by sender): Insurance more than $500 | Eligible extra services (paid by sender): Signature confirmation | Eligible extra services (paid by sender): Certificate of mailing
USPS Returns:
Priority Mail Return Service | 1 | 1, 2, 3 | ✓ | 1 | 1, 2 | ✓ | 4
First-Class Package Return Svs | 3 | 2, 3 | ✓ | ✓ | 2 | ✓ | 4
Ground Return Service | 3 | 2, 3 | ✓ | ✓ | 2 | ✓ | 4
Parcel Return Service | ✓ | 2 |  | ✓ | 2 |  | 4
1. Insurance is not included for Priority Mail Return Service, it must be purchased.
2. A signature is not provided as part of the delivery record for USPS Returns service items insured for more than $500.
3. Insurance being purchased by the EPS account holder must be accompanied by electronic data that supports the value of the merchandise and the associated fee paid (see 4.3.1).
4. Individual pieces using Form 3817 or Form 3665 by sender only.

* * * * *

2.0 Registered Mail

* * * * *

2.2 Fees and Liability

* * * * *

[Delete 2.2.4, Merchandise Return, in its entirety and renumber 2.2.5 as 2.2.4.]

2.2.4 Indemnity

[Revise the text of renumbered 2.2.4 to read as follows:]

No indemnity is paid for any matter registered without prepayment of postage and fees.

* * * * *

2.5 Inquiry on Uninsured Article

2.5.1 Who, When and How to File

[Revise the second sentence of 2.5.1 to read as follows:]

* * * Only the mailer may file an inquiry for Registered Mail items with no declared value.

* * * * *

4.0 Insured Mail

* * * * *

4.2 Insurance Coverage—Priority Mail

Priority Mail pieces bearing an Intelligent Mail package barcode (IMpb) or USPS retail tracking barcode (see 4.3.4) are insured against loss, damage, or missing contents, up to a maximum of $50.00 or $100.00, subject to the following:

* * * * *

[Revise the text of item e to read as follows:]

e. Insurance coverage under 4.2a or 4.2b is not provided for Priority Mail packages mailed as USPS Returns service, Priority Mail Open and Distribute, or Premium Forwarding Service.

* * * * *

4.3 Basic Standards

4.3.1 Description

Insured mail is subject to the basic standards in 1.0; see 1.4 for eligibility. The following additional standards apply to insured mail:

[Revise the text of item a by adding a new third sentence to read as follows:]

a. * * * For customer-generated integrated barcodes used for USPS Returns service or Parcel Return Service, the returns account holder must provide USPS with electronic data in a shipping services file version 1.6 or higher that identifies the USPS Tracking number of the insured return package, total postage paid, insurance fee paid, declared value, mailing date, origin ZIP Code, and delivery ZIP Code, along with the recipient name and address information. * * *

* * * * *

505 Return Services

* * * * *

[Revise the heading and text of 3.0 to read as follows:]

3.0 USPS Returns Service

3.1 Basic Standards

3.1.1. Description

USPS Returns service allows an authorized account holder to pay the postage and fees on single-piece priced commercial Priority Mail, First-Class Package Service—Commercial, or Parcel Select Ground packages returned to the account holder by senders (mailers) via a return label, meeting the standards in 3.1.4, produced by the account holder. Unless otherwise restricted, any mailable matter may be mailed using any of the USPS Returns service options (Priority Mail Return Service, First-Class Package Return Service, and Ground Return Service (Parcel Select Ground)). Any content that constitutes First-Class Mail matter may only be mailed using Priority Mail Return Service. USPS Returns service is subject to the following conditions:

a. Availability. USPS Returns service is available to the account holder for mailing to the account holder's designated address on the USPS Returns label(s).

b. Payment Guarantee. The account holder must guarantee payment of the proper postage and fees, including any fees for Extra Services requested by the account holder, on all packages returned bearing a valid barcoded USPS Returns label produced by the account holder. The account holder must have sufficient funds in their associated Electronic Payment Account to pay the postage and fees on an ongoing basis.

c. Where Service Established. USPS Returns service accounts may be established at any Post Office in the United States and its territories and possessions or at any overseas U.S. military Post Office (APO/FPO/DPO). USPS Returns service is not available for returns from any foreign country.

3.1.2 Accounts

USPS Returns service accounts are subject to the following:

a. Account Enrollment. An approved USPS Returns service account may be established by calling the Mailing and Shipping Solutions Center at 1-877-672-0007.

b. Advance Deposit Account. The account holder must pay postage and fees through an Enterprise Payment System (EPS) account, accessed through the Business Customer Gateway (BCG) at https://gateway.usps.com and agree to the terms and conditions for use of such EPS account as the EPS account holder.

c. Mailer Identification Code (MID). Applicants must request a new MID via the BCG, select the product type of nonmanifested returns, and select the applicable Service Type Codes (STCs) for the desired USPS Returns service products.

d. Application Process. Applicants must have a valid Enterprise Payment Account and be registered in the Business Customer Gateway (BCG).

e. Canceled Accounts. If the account is cancelled by the EPS account holder, USPS Returns service packages bearing the sender's return address are returned to the sender; otherwise, they are treated as dead mail.

f. Account Cancellation. The USPS may cancel an account if the EPS account holder refuses to accept and pay postage and fees for USPS Returns service packages, fails to keep sufficient funds in the advance deposit account to cover postage and fees, or distributes return labels that do not meet USPS standards.

g. Reapplying After Cancellation. To receive a new account after a previous USPS Returns service account is canceled, the applicant must re-register in the Business Customer Gateway and obtain and new mailer identification code (MID) for USPS Returns service use. If not using labels generated by the USPS Application Program Interface (API) https://www.usps.com/business/web-tools-apis/welcome.htm or Merchant Return Application (MRA), applicants must submit for approval two samples for each label format to the National Customer Support Center (NCSC). In addition, applicants must provide evidence that the reasons for the account cancellation are corrected, and maintain funds in their advance deposit account sufficient to cover normal returns for at least two weeks.

h. Using Other Post Offices. The authorized Enterprise Payment System (EPS) account holder using USPS Returns may distribute USPS Returns labels for return through other Post Office locations.

3.1.3 Postage and Prices

Postage and prices are subject to the following:

a. Postage is calculated based on the weight of the return package and zone associated with the point of origin and delivery ZIP Code subject to the eligibility for commercial prices and fees based on the class of mail under 220, 250, and 280, except that postage for USPS Returns in flat-rate packaging is based on the packaging type used and the associated Universal Product Code (UPC) on the packaging. USPS Returns service packages are charged postage and fees based on the service type code (STC) embedded in the Intelligent Mail Package barcode (IMpb) and as provided under 3.1.3c. If all or part of the IMpb is unreadable, or the package is unable to be priced based on the data collected, postage will be determined by the Postal Service based on historical data, or default data determined at time of enrollment.

b. Prices for Priority Mail Return Service, First-Class Package Return Service, and Ground Return Service (Parcel Select Ground) packages are charged as follows:

1. Priority Mail Commercial Base prices are available for account holders using Priority Mail Return Service, when all applicable requirements are met.

2. Priority Mail Commercial Plus prices are available for Priority Mail Return Service packages that qualify for Commercial Base prices and for which the account holder has a customer commitment agreement with the USPS (see 223.1.3).

3. First-Class Package Service—Commercial prices are available for First-Class Package Return Service packages when all applicable requirements are met.

4. Parcel Select Ground prices are available for Ground Return Service packages when all applicable requirements are met.

c. The account holder or mailer may obtain extra and additional services as follows:

1. Insurance—is available for USPS Returns service (see 503.0). Insurance is not included with the postage for Priority Mail Return Service. Insurance is available to the account holder for a fee on packages that have the applicable STC imbedded into the IMpb on the label, and for which the account holder has provided electronic data that supports the value of the merchandise (see 503.4.3.1a). Only the account holder may file a claim (see 609). Mailers mailing a USPS Returns service package may obtain insurance at their own expense at the time of mailing by presenting the labeled USPS Returns package at a Post Office retail unit to obtain the service.

2. Signature Confirmation is available for USPS Returns service (see 503.0). Signature Confirmation is available for a fee to the account holder for packages that have the applicable STC for Signature Confirmation imbedded into the IMpb on the label. Mailers mailing a USPS Returns package may obtain Signature Confirmation at their own expense at the time of mailing by presenting the labeled USPS Return package at a Post Office retail unit to obtain the service.

3. Certificate of Mailing is available only to mailers at their own expense at the time of mailing by presenting the certificate at a Post Office retail unit to obtain the receipt.

4. Pickup on Demand Service is available for a fee with USPS Returns service (see 507.7.0).

3.1.4 Labels

Distribution and preparation of labels are subject to the following:

a. Distribution of Labels. USPS Returns labels may be distributed to customers as an enclosure with merchandise, as a separate package (including when requested electronically through the Business Customer Gateway for printing and delivery to the customer by USPS), as an electronic transmission for customer downloading and printing (including through Label Broker™ which allows customers to have the pre-paid returns label printed for them at a USPS Retail System Software (RSS) enabled retail location via a Label ID and/or QR code on a smart phone, on a piece of paper, or written directly on a package presented to the retail associate), or through one of the account holder's designated pickup facilities.

b. Label Preparation. USPS Returns labels must meet the standards in the Parcel Labeling Guide available on the PostalPro website at https://postalpro.usps.com/parcellabelingguide. The label must include an IMpb, accommodate all required information, be legible, and be prepared in accordance with Publication 199, Intelligent Mail Package Barcode (IMpb) Implementation Guide, available on the PostalPro website. Standard label sizes are 3 inches by 6 inches, 4 inches by 4 inches, or 4 inches by 6 inches, and must be certified by the USPS for use prior to distribution. Except for USPS Returns labels generated by the USPS Application Program Interface (API) or Merchandise Return Application (MRA), all returns labels must have a properly constructed (C01, C05, N02, or N05, as applicable) IMpb approved by the National Customer Support Center (NCSC). EPS account holders or their agents may distribute approved return labels and instructions by means specified in 3.1.4b. EPS account holders or their agents must provide written instructions to the label end-user (mailer) as specified in 3.1.4c. Labels cannot be faxed. If all applicable content and format standards are met, USPS Returns labels may be produced by any of the following methods:

1. As an impression printed by the EPS account holder directly onto the package to be returned.

2. As a separate label preprinted by the EPS account holder to be affixed by the customer onto the package to be returned. The reverse side of the label must bear an adhesive strong enough to bond the label securely to the package. Labels must be printed and delivered by USPS to the customer when requested electronically by the EPS account holder or its agents through the Business Customer Gateway, or provided as an electronic file created by the EPS account holder for local output and printing by the customer. The electronic file must include instructions that explain how to affix the label securely to the package, and that caution against covering with tape or other material any part of the label where postage and fee information is to be recorded.

c. Labeling Instructions. Written instructions must be provided with the label that, at a minimum, directs the customer to do the following:

1. “If your name and address are not already preprinted in the return address area, print them neatly in that area or attach a return address label there.”

2. “Attach the label squarely onto the largest side of the package, centered if possible. Place the label so that it does not fold over to another side. Do not place tape over any barcodes on the label or any part of the label where postage and fee information will be recorded.”

3. “Remove or obliterate any other addresses, barcodes or price markings on the outside packaging.”

4. “Mail the labeled USPS Returns service package at a Post Office, drop it in a collection box, leave it with your USPS carrier, or schedule a package pickup at www.usps.com.”

3.1.5 Noncompliant Labels

USPS Returns account holders must use USPS-certified labels meeting the standards in 3.1.4. When noncompliant labels are affixed to USPS Returns service packages, the permit holder will be assessed the appropriate USPS Retail Ground price calculated from the package's initial entry point (first physical scan) in the USPS network to its delivery address.

3.1.6 Enter and Deposit

The EPS account holder's customers may mail the USPS Returns service package at any Post Office; any associated office, station, or branch; in any collection box (except a Priority Mail Express box); with any rural carrier; by package pickup; on business routes during regular mail delivery if prior arrangements are made with the carrier; as part of a collection run for other mail (special arrangements might be required); or at any place designated by the Postmaster for the receipt of mail. USPS Returns service packages with extra services must be mailed either with the rural carrier or at the main Post Office or any associated office, station, or branch. Any such packages deposited in collection boxes may be returned to the sender for the extra service to be purchased appropriately, or it will be processed and charged postage and fees based on the service type code (STC) embedded in the Intelligent Mail Package barcode (IMpb) on the label and as provided under 3.1.3c.

3.1.7 Additional Standards

Additional mailing standards applicable to each service option are as follows:

a. Priority Mail Return service may contain any mailable matter meeting the standards in 201.8.0 and 220.2.0. APO/FPO/DPO mail is subject to 703.2.0 and 703.4.0, and Department of State mail is subject to 703.3.0. Priority Mail Return service receives expeditious handling and transportation, with service standards in accordance with Priority Mail. Priority Mail Return service mailed under a specific customer agreement is charged postage according to the individual agreement. Commercial Base and Commercial Plus prices are the same as for outbound Priority Mail in Notice 123, Price List.

b. First-Class Package Return service may contain mailable matter meeting the standards in 201.8.0 and 280.2.0. First-Class Package Return service handling, transportation, and eligibility of contents are the same as for outbound First-Class Package Service—Commercial parcels under 283. First-Class Package Return service packages may not contain documents or personal correspondence, except that such packages may contain invoices, receipts, incidental advertising, and other documents that relate in all substantial respects to merchandise contained in the package.

c. Ground Return (Parcel Select Ground) service provides ground transportation for parcels containing mailable matter meeting the standards in 201.8.0 and 153.3.0. Ground Return (Parcel Select Ground) service is required for restricted and hazardous materials mailed using USPS Returns service and as provided in Publication 52, Hazardous, Restricted, and Perishable Mail. Ground Return (Parcel Select Ground) service assumes the handing and transportation and service objectives for delivery of USPS Retail Ground.

* * * * *

507 Mailer Services

* * * * *

7.0 Pickup on Demand Service

7.1 Postage and Fees

7.1.1 Postage

[Revise the text of 7.1.1 to read as follows:]

The correct amount of postage must be affixed to each piece except for a Priority Mail Express label paid with a corporate account, packages with a USPS Returns label affixed (under 505.3.0), pieces with a Parcel Return Service permit label affixed (under 505.4.0), and manifest mailings paid by permit imprint indicia approved by Business Mailer Support (BMS).

* * * * *

7.1.3 Fee Not Charged

The customer is not charged for:

* * * * *

[Revise the text of item c to read as follows:]

c. Pickup on Demand when the item bears a USPS Returns service label that indicates that the permit holder will pay for Pickup on Demand service.

* * * * *

508 Recipient Services

* * * * *

7.0 Premium Forwarding Services

* * * * *

7.3 Premium Forwarding Service Commercial

* * * * *

7.3.3 Conditions

* * * PFS-Commercial service is subject to these conditions:

* * * * *

[Revise the text of item f to read as follows:]

f. The mailer must keep a postage-due account or business reply mail (BRM) account at the originating postal facility where the P.O. Box or business street address is located. Any short paid, BRM pieces will be charged to the mailer's account prior to shipment.

* * * * *

7.4 Premium Forwarding Service Local

* * * * *

7.4.3 Conditions

* * * PFS-Local service is subject to these conditions:

* * * * *

[Revise the text of item f to read as follows:]

f. A business must keep a postage-due account or business reply mail (BRM) account at the originating postal facility where the PO Box or business street address is located. Any short paid, BRM pieces will be charged to the mailer's account prior to reshipment.

* * * * *

600 Basic Standards For All Mailing Services

* * * * *

602 Addressing

1.0 Elements of Addressing

* * * * *

1.3 Address Elements

All mail not bearing a simplified address must bear a delivery address that contains at least the following elements in this order from the top line:

* * * * *

e. ZIP Code where required:

[Revise the text of item e1 to read as follows:]

1. ZIP Codes are required on Priority Mail Express, commercial First-Class Mail, First-Class Package Service—Commercial, Periodicals, USPS Marketing Mail, Package Services and Parcel Select mailpieces, all mail sent to military addresses within the United States and to APO and FPO addresses, official mail, Business Reply Mail, and USPS Returns service packages.

* * * * *

604 Postage Payment Methods and Refunds

* * * * *

6.0 Payment of Postage

* * * * *

6.4 Advance Deposit Account

[Revise the third sentence of 6.4 to read as follows:]

* * * Mailers may use a single advance deposit account to pay postage due charges for more than one return service (e.g., business reply mail and Bulk Parcel Return Service).

* * * * *

10.0 Postage Due Weight Averaging Program

10.1 Basic Information

10.1.1 Description

[Revise the second sentence of 10.1.1 to read as follows:]

* * * This program, subject to application, approval, and authorization, is available for customers who receive a minimum of 50,000 combined postage due parcels and flats or Bulk Parcel Return Service (BPRS) pieces. * * *

10.1.2 General Qualification

[Revise the second sentence of 10.1.2 to read as follows:]

* * * Returns can include all classes of mail where postage due fees are assessed, including BPRS return pieces. * * *

* * * * *

[Delete 11.0, Scan-Based Payment, in its entirety.]

* * * * *

609 Filing Indemnity Claims for Loss or Damage

1.0 General Filing Instructions

* * * * *

1.3 Who May File

A claim may be filed by:

* * * * *

[Revise the text of items c and d to read as follows:]

c. Only the account holder, for USPS Returns packages that are insured as identified by the account holder's mailer identification (MID) and the applicable STC for insurance imbedded into the IMpb on the label, and for which the account holder has provided electronic data that supports the value of the merchandise being returned (see 503.4.3.1a).

d. Only the mailer, when the mailer has added and paid for insurance on USPS Returns service packages.

* * * * *

3.0 Providing Evidence of Insurance and Value

3.1 Evidence of Insurance

* * * Examples of acceptable evidence are:

* * * * *

[Revise the introductory text of item e to read as follows:]

e. For insured mail or COD mail paid using MMS or eVS under 705.2.0, or for insured mail paid using an EPS account for USPS Returns service under 503.3.0, the mailer must use one of the following:

[Revise the text of item e1 to read as follows:]

1. A Detail Record in their Shipping Services file version 1.6 or higher (which includes the USPS Tracking number of the insured item, total postage paid, insurance fee paid, declared value, mailing date, origin ZIP Code, delivery ZIP Code) along with the recipient name and address information for the accountable extra services pieces.

* * * * *

Index

* * * * *

M

* * * * *

[Revise the heading and text under “merchandise return service” to read as follows (re-alphabetize heading and text after revision):]

USPS Returns service, 505.3.0

accounts 505.3.1.2

adding extra services (by the mailer), 505.3.1.3

adding extra services (by the permit holder), 505.3.1.3

advanced deposit account, 505.3.1.2

applying for a permit, 505.3.1.2

format for label, 505.3.1.4

general information, 505.3.1.1

* * * * *

R

* * * * *

Reply Mail

* * * * *

[Revise the “merchandise return service” entry to read as follows (re-alphabetize entry after revision):]

USPS Returns service, 505.3.0

* * * * *

return services

* * * * *

[Delete “merchandise return service”.]

* * * * *

[Revise the “USPS return services” entry to read as follows:]

USPS Returns service, 505.3.0

* * * * *

Brittany M. Johnson,
Attorney, Federal Compliance.

[FR Doc. 2019-27005 Filed 12-18-19; 8:45 am]

BILLING CODE 7710-12-P